POSTAL REGULATORY COMMISSION

[Docket No. MC2015-42; Order No. 2414]

New Postal Product

AGENCY: Postal Regulatory Commission.

ACTION: Notice.

SUMMARY: The Commission is noticing a recent Postal Service filing concerning the Postal Service's notice of a minor classification change regarding the issuance of new Forever stamps. This notice informs the public of the filing, invites public comment, and takes other administrative steps.

DATES: Comments are due: April 2, 2015.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Notice of Commission Action

III. Ordering Paragraphs

I. Introduction

On March 25, 2015, the Postal Service filed a notice of minor classification changes under Commission rules 39 CFR 3020.90 and 3020.91.¹ The Postal Service seeks to add non-denominated, non-expiring (“Forever”) status to stamps in five different First-Class Mail stamp categories: (1) A postcard stamp, (2) the two-ounce letter stamp, (3) the three-ounce letter stamp, (4) the additional ounce stamp, and (5) the first ounce nonmachinable surcharge stamp, as well as modify the definition of Forever stamps. Notice at 1. The Postal Service presents these proposed changes to the Mail Classification Schedule (MCS) in Attachment 1 to the Notice. See Notice, Attachment 1.

¹ Notice of the United States Postal Service of Minor Classification Changes Related to the Issuance of Forever Stamp Status to the Postcard, Two-Ounce, Three-Ounce, Additional Ounce, and Nonmachinable Surcharge Stamps, March 25, 2015 (Notice).

The Postal Service states that the proposed changes reflect its objective to simplify the transactions associated with price changes. Notice at 2. It also seeks to eliminate the need for customers and the Postal Service to acquire and distribute new denominated stamps when a prices change occurs. Id. The Postal Service states that the proposed changes are minor in nature and are consistent with 39 U.S.C. 3642. Id. at 1, n.1, and 3.

II. Notice of Commission Action

Pursuant to 39 CFR 3020.92, the Commission has posted the Notice on its Web site and invites comments on whether the Postal Service's filings in Docket No. MC2015-42 are consistent with the policies of 39 U.S.C. 3642 and 39 CFR 3020 subpart E. Comments are due no later than April 2, 2015. The public portions of these filings can be accessed via the Commission's Web site (http://www.prc.gov).

The Commission appoints Kenneth E. Richardson to represent the interests of the general public (Public Representative) in this docket.

III. Ordering Paragraphs

It is ordered:

1. The Commission establishes Docket No. MC2015-42 to consider matters raised by the notice.

2. Pursuant to 39 U.S.C. 505, Kenneth E. Richardson is appointed to serve as an officer of the Commission (Public Representative) to represent the interests of the general public in this proceeding.

3. Comments by interested persons are due by April 2, 2015.

4. The Secretary shall arrange for publication of this Order in the Federal Register.

By the Commission.
Shoshana M. Grove,
Secretary.

[FR Doc. 2015-07355 Filed 3-31-15; 8:45 am]

BILLING CODE 7710-FW-P